INTERNATIONAL TRADE COMMISSION

[Investigation No. 332-562 and Investigation No. 332-563]

Global Digital Trade 2: The Business-to-Business Market, Key Foreign Trade Restrictions, and U.S. Competitiveness; and Global Digital Trade 3: The Business-to-Consumer Market, Key Foreign Trade Restrictions, and U.S. Competitiveness; Scheduling of Hearing

AGENCY: United States International Trade Commission.

ACTION: Scheduling of public hearing.

SUMMARY: The Commission has scheduled a public hearing for March 6, 2018, in connection with the second and third of three investigations on global digital trade: Investigation No. 332-562, Global Digital Trade 2: The Business-to-Business Market, Key Foreign Trade Restrictions, and U.S. Competitiveness; and investigation No. 332-563, Global Digital Trade 3: The Business-to-Consumer Market, Key Foreign Trade Restrictions, and U.S. Competitiveness. Procedures relating to participation are set forth below.

DATES:

February 20, 2018: Deadline for filing request to appear at the public hearing

February 26, 2018: Deadline for filing pre-hearing briefs and statements

March 6, 2018: Public hearing

March 20, 2018: Deadline for filing post-hearing briefs and statements

April 6, 2018: Deadline for filing all other written submissions for investigation No. 332-362

August 15, 2018: Deadline for filing all other written submissions for investigation No. 332-563

ADDRESSES: All Commission offices, including the Commission's hearing rooms, are located in the United States International Trade Commission Building, 500 E Street SW, Washington, DC. All written submissions should be addressed to the Secretary, United States International Trade Commission, 500 E Street SW, Washington, DC 20436. The public file for these investigations may be reviewed on the Commission's electronic docket (EDIS) at https://edis.usitc.gov.

FOR FURTHER INFORMATION CONTACT: For information relating to Global Digital Trade 2, contact co-Project Leaders Dan Kim (202-205-3234 or dan.kim@usitc.gov) and Alissa Tafti (202-205-3244 or alissa.tafti@usitc.gov); and for information relating to Global Digital Trade 3, contact Project Leader Ricky Ubee (202-205-3493 or ravinder.ubee@usitc.gov) or Deputy Project Leader Christopher Robinson (202-205-2602 or christopher.robinson@usitc.gov). For information on the legal aspects of these investigations, contact William Gearhart in the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION: In his letter of January 13, 2017, the United States Trade Representative (USTR) requested that the Commission conduct three investigations and prepare three reports relating to global digital trade. The Commission delivered the first of these reports, Global Digital Trade 1: Market Opportunities and Key Foreign Trade Restrictions, on August 29, 2017 and released it to the public on September 28, 2017.

The Commission invites members of the public with an interest in the matter to participate in a hearing for the second and third investigations in this series and provide information that relates to the reports that the Commission has been asked to prepare. For the second report (Global Digital Trade 2: The Business-to-Business Market, Key Foreign Trade Restrictions, and U.S. Competitiveness) the USTR requested that the Commission, based on available information, including a survey of U.S. firms in selected industries particularly involved in digital trade:

• Provide qualitative, and to the extent possible, quantitative analysis of measures in key foreign markets (identified in the first report) that affect the ability of U.S. firms to develop and/or supply business-to-business digital products and services abroad; and

• Assess, using case studies or other qualitative and quantitative methods, the impact of these measures on the competitiveness of U.S. firms engaged in the sale of digital products and services, as well as on international trade and investment flows associated with digital products and services related to significant business-to-business technologies.

The Commission expects to deliver this second report to the USTR by October 29, 2018.

For the third report (Global Digital Trade 3: The Business-to-Consumer Market, Key Foreign Trade Restrictions, and U.S. Competitiveness) the USTR requested that the Commission, based on available information, including a survey of U.S firms in selected industries particularly involved in digital trade:

• Provide qualitative, and to the extent possible, quantitative analysis of measures in key foreign markets (identified in the first report) that affect the ability of U.S. firms to develop and/or supply business-to-consumer digital products and services abroad; and

• Assess, using case studies or other qualitative and quantitative methods, the impact of these measures on the competitiveness of U.S. firms engaged in the sale of digital products and services, as well as on international trade and investment flows associated with digital products and services related to significant business-to-consumer technologies.

The Commission expects to deliver this third report to the USTR by March 29, 2019.

Public Hearing: A public hearing in connection with the second and third investigations will be held at the U.S. International Trade Commission Building, 500 E Street SW, Washington, DC, beginning at 9:30 a.m. on March 6, 2018. Requests to appear at the public hearing should be filed with the Secretary, no later than 5:15 p.m. on February 20, 2018, in accordance with the requirements in the “Written Submissions” section below. All pre-hearing briefs and statements should be filed no later than 5:15 p.m. on February 26, 2018; and all post-hearing briefs and statements responding to matters raised at the hearing should be filed no later than 5:15 p.m. on March 20, 2018. In the event that, as of the close of business on February 20, 2018, no witnesses are scheduled to appear at the hearing, the hearing will be canceled. Any person interested in attending the hearing as an observer or nonparticipant should contact the Office of the Secretary at 202-205-2000 after February 20, 2018, for information concerning whether the hearing will be held.

Written Submissions: In lieu of or in addition to participating in the hearing, interested parties are invited to file written submissions concerning these investigations. All written submissions should be addressed to the Secretary. Written submissions relating to investigation No. 332-562, or both investigation Nos. 332-562 and 332-563, should be received no later than 5:15 p.m. on April 6, 2018. Written submissions relating only to investigation No. 332-563 should be received no later than 5:15 p.m. on August 15, 2018. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraphs for further information regarding confidential business information or “CBI”). Persons with questions regarding electronic filing should contact the Office of the Secretary, Docket Services Division (202-205-1802).

Confidential Business Information: Any submissions that contain CBI must also conform to the requirements of section 201.6 of the Commission's Rules of Practice and Procedure (19 CFR 201.6). Section 201.6 of the rules requires that the cover of the document and the individual pages be clearly marked as to whether they are the “confidential” or “non-confidential” version, and that CBI is clearly identified by means of brackets. All written submissions, except for those containing CBI, will be made available for inspection by interested parties.

All information, including CBI, submitted in these two investigations may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel (a) for cybersecurity purposes or (b) in monitoring user activity on U.S. government classified networks. The Commission will not otherwise disclose any CBI in a manner that would reveal the operations of the firm supplying the information.

Reports To Be Classified and Privileged: In his request letter, the USTR said that, in accordance with USTR policy on implementing Executive Order 13526, as amended, he was directing the Commission to mark or identify as “Confidential,” for a period of ten years, such portions of the Commission's second and third reports and related working papers that contain the Commission's analysis of the impact of barriers to digital trade on (1) U.S. imports and exports of digital products and services and (2) the competitiveness of U.S. companies. The USTR also indicated that he intends to treat the Commission's second and third reports as interagency memoranda containing predecisional advice subject to the deliberative process privilege.

Summaries of Written Submissions: The Commission intends to include summaries of the written submissions filed by interested persons in the second and third reports. Persons wishing to have a summary of their submission included in the reports should include a summary with their written submission. The summary may not exceed 500 words, should be in MSWord format or a format that can be easily converted to MSWord, and should not include any CBI. The summary will be included in the reports as provided if it meets requirements and is germane to the subject matter of the investigation. The Commission will identify the name of the organization furnishing the summary and will include a link to the Commission's Electronic Document Information System (EDIS) where the full written submission can be found.

Notice of institution of the second and third investigations in this series was published in the Federal Register on May 8, 2017 (82 FR 21404); notice of institution of the first investigation in this series was published in the Federal Register on February 10, 2017 (82 FR 10397).

By order of the Commission.
Issued: January 18, 2018.
Lisa R. Barton,
Secretary to the Commission.

[FR Doc. 2018-01156 Filed 1-22-18; 8:45 am]

BILLING CODE 7020-02-P